ENVIRONMENTAL PROTECTION AGENCY

40 CFR Part 52

[MD131-3091b; FRL-7503-8]

Approval and Promulgation of Air Quality Implementation Plans; Maryland; Amendments to the Control of Volatile Organic Compounds from Chemical Production and Polytetrafluoroethylene Installations

AGENCY: Environmental Protection Agency (EPA).

ACTION: Proposed rule.

SUMMARY: EPA proposes to approve the State Implementation Plan (SIP) revisions submitted by the State of Maryland. The revisions consist of amendments to Maryland's air pollution control regulations governing specific processes on volatile organic compound (VOC) requirements that initially included organic chemicals and are being expanded to include inorganic chemicals and polytetrafluoroethylene (PTFE) products. In the Final Rules section of this Federal Register, EPA is approving the State's SIP submittal as a direct final rule without prior proposal because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based on this proposed rule. EPA will not institute a second comment period. Any parties interested in commenting on this action should do so at this time.

DATES: Comments must be received in writing by July 3, 2003.

ADDRESSES: Written comments should be addressed to Makeba A. Morris, Branch Chief, Air Quality Planning and Information Services Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; and the Maryland Department of the Environment, 1800 Washington Blvd., Suite 730, Baltimore, Maryland 21230.

FOR FURTHER INFORMATION CONTACT: Betty Harris, (215) 814-2168, at the EPA Region III address above, or by e-mail at harris.betty@epa.gov.

SUPPLEMENTARY INFORMATION: For further information, please see the information provided in the direct final action for Maryland's amendments to the control of VOCs from chemical production and PTFE installations, that is located in the “Rules and Regulations” section of this Federal Register publication. Please note that if EPA receives adverse comment on an amendment, paragraph, or section of this rule and if that provision may be severed from the remainder of the rule, EPA may adopt as final those provisions of the rule that are not the subject of an adverse comment.

Dated: May 20, 2003.
Abraham Ferdas,
Acting Regional Administrator, Region III.

[FR Doc. 03-13701 Filed 6-2-03; 8:45 am]

BILLING CODE 6560-50-P